DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 14, 2009.

Interested persons are invited to submit written comments regarding the subject matter of the investigations to the Director, Division of Trade Adjustment Assistance, at the address shown below, not later than September 14, 2009.

The petitions filed in this case are available for inspection at the Division of Trade Adjustment Assistance, Employment and Training Administration, U.S. Department of Labor, Room N-5428, 200 Constitution Avenue, NW., Washington, DC 20210.

Signed at Washington, DC, this 24th day of August 2009.
Linda G. Poole,
Certifying Officer, Division of Trade Adjustment Assistance.

Appendix
[TAA petitions instituted between 7/6/09 and 7/10/09]
TA-W | Subject firm (petitioners) | Location | Date of institution | Date of petition
71546 | Bodet-Horst (Comp) | Mt. Airy, NC | 07/06/09 | 07/06/09
71547 | Liberty Aerospace (Wkrs) | Melbourne, FL | 07/06/09 | 06/15/09
71548 | U.S. Steel Tubular Products (USW) | Houston, TX | 07/06/09 | 07/03/09
71549 | TMK IPSCO (Wkrs) | Blytheville, AR | 07/06/09 | 07/03/09
71550 | IBM (Wkrs) | Chicago, IL | 07/06/09 | 07/01/09
71551 | Freescale Semiconductor (Wkrs) | Austin, TX | 07/06/09 | 07/01/09
71552 | EDS, an HP Company (Comp) | Englewood, CO | 07/06/09 | 07/02/09
71553 | Kersey Tool and Die Co (Comp) | Kersey, PA | 07/06/09 | 07/01/09
71554 | International Automotive Components (IAC) (Wkrs) | Huron, OH | 07/06/09 | 06/14/09
71555 | Carbone of America (Wkrs) | St. Marys, PA | 07/06/09 | 06/29/09
71556 | North River Boats (Wkrs) | Roseburg, OR | 07/06/09 | 06/23/09
71557 | Electronic Data Systems (Comp) | Plano, TX | 07/07/09 | 06/24/09
71558 | Atlas Paessed Metals (Wkrs) | DuBois, PA | 07/07/09 | 06/18/09
71559 | Gresham Chrysler—Jeep, Inc. (Wkrs) | Gresham, OR | 07/07/09 | 06/29/09
71560 | Newton Transportation Company, Inc. (Comp) | Hudson, NC | 07/07/09 | 07/02/09
71561 | Severstal Wheeling, Inc. (USW) | Wheeling, WV | 07/07/09 | 06/17/09
71562 | Magneti Marelli Powertrain USA, LLC (Comp) | Sanford, NC | 07/07/09 | 07/07/09
71563 | KB Alloys, LLC (Comp) | Robards, KY | 07/07/09 | 07/07/09
71564 | Boby King Automotive (Wkrs) | Winston-Salem, NC | 07/07/09 | 07/01/09
71565 | Marinco (Wkrs) | Napa, CA | 07/07/09 | 07/03/09
71566 | Oxford Collections (Wkrs) | Gaffney, SC | 07/07/09 | 06/25/09
71567 | Patsy Aiken Designs (Wkrs) | Raleigh, NC | 07/07/09 | 06/19/09
71568 | C. K. Knitting, Inc. (Comp) | Fort Payne, AL | 07/07/09 | 07/07/09
71569 | BBI (IUECWA) | Sidney, OH | 07/07/09 | 06/24/09
71570 | Sekisui Voltek, LLC (Wkrs) | Coldwater, MI | 07/07/09 | 07/07/09
71571 | Interdent Service Corporation (Comp) | El Segundo, CA | 07/07/09 | 06/11/09
71572 | Severstal Wheeling, Inc. (Wkrs) | Steubenville, OH | 07/07/09 | 06/17/09
71573 | Mountain State Carbon (USW) | Follansbee, WV | 07/07/09 | 06/17/09
71574 | Win On, Inc. (Wkrs) | Brooklyn, NY | 07/07/09 | 06/23/09
71575 | A-Stamp Ind. (Wkrs) | Bryan, OH | 07/07/09 | 07/06/09
71576 | American Axle and Manufacturing Company, Inc. (State) | Detroit, MI | 07/07/09 | 06/15/09
71577 | Dallas Industries (48913) | Troy, MI | 07/07/09 | 06/15/09
71578 | Shore to Shore, Inc. (Wkrs) | Miamisburg, OH | 07/07/09 | 06/26/09
71579 | United Air Lines, Inc. (IBT) | Jamaica, NY | 07/08/09 | 07/06/09
71580 | Goodyear Tire and Rubber Company (Wkrs) | Danville, VA | 07/08/09 | 07/02/09
71581 | Global Engine Manufacturing Alliance, LLC (State) | Dundee, MI | 07/08/09 | 07/06/09
71582 | Eastman Kodak Company (Wkrs) | Rochester, NY | 07/08/09 | 07/03/09
71583 | Data 2 Logistics (State) | Grand Blanc, MI | 07/08/09 | 06/15/09
71584 | Chrysler LLC, Quality Egineering Center (State) | Auburn Hills, MI | 07/08/09 | 06/15/09
71585 | Alyeska Pipeline Service Company (Comp) | Anchorage, AK | 07/08/09 | 07/06/09
71586 | Mars Petcare US, Inc. (State) | Vernon, CA | 07/08/09 | 07/07/09
71587 | Magna Donnelly (Wkrs) | Alto, MI | 07/08/09 | 07/06/09
71588 | Weathershield Manufacturing (Wkrs) | Ladysmith, WI | 07/08/09 | 07/07/09
71589 | Hart Schaffner and Marx/Thorngate Ltd. (Wkrs) | Chicago, IL | 07/08/09 | 07/07/09
71590 | General Pattern Company (State) | Blaine, MN | 07/08/09 | 07/07/09
71591 | Aztec Machinery Company, Inc. (Comp) | Ivyland, PA | 07/08/09 | 06/25/09
71592 | DuBois Chemicals (Wkrs) | Sharonville, OH | 07/08/09 | 06/24/09
71593 | UFE Incorporated (Comp) | Osceola, WI | 07/08/09 | 07/07/09
71594 | Flextronics, Inc. (Wkrs) | Austin, TX | 07/08/09 | 07/08/09
71595 | Carlisle, Motion Control Ind. (Wkrs) | Charlottesville, VA | 07/08/09 | 06/29/09
71596 | ATS Systems Oregon, Inc. (Wkrs) | Corvallis, OR | 07/08/09 | 07/06/09
71597 | Siemens Energy and Automation, Inc. (IBEW) | Portland, OR | 07/08/09 | 07/07/09
71598 | Computer Science Corporation (Wkrs) | Irving, TX | 07/08/09 | 06/29/09
71599 | Toyotetsu Mid America (TTMA) (Wkrs) | Owensboro, KY | 07/08/09 | 07/07/09
71600 | Gemological Institute of America (State) | Carlsbad, CA | 07/08/09 | 07/07/09
71601 | The Bank of New York Mellon (Wkrs) | Syracuse, NY | 07/08/09 | 07/07/09
71602 | Cooper Tools (Comp) | Sumter, SC | 07/08/09 | 07/07/09
71603 | Roush Industries, Inc. (Comp) | Allen Park, MI | 07/09/09 | 07/08/09
71604 | Rockland Industries, Inc. (Comp) | Baltimore, MD | 07/09/09 | 07/08/09
71605 | Suzlon Rotor Company (State) | Pipestone, MN | 07/09/09 | 07/08/09
71606 | Ridgway Powdered Metals, Inc. (Wkrs) | Ridgway, PA | 07/09/09 | 07/08/09
71607 | Wisconsin Mechanical, LLC (State) | Waukesha, WI | 07/09/09 | 07/08/09
71608 | Xilinx, Inc. (Wkrs) | San Jose, CA | 07/09/09 | 07/07/09
71609 | EDS, an HP Company (Comp) | St. Charles, MO | 07/09/09 | 07/02/09
71610 | DJO, Inc. (formally Enclore Medical, LP/Chattanooga Grp) (Comp) | Hixson, TN | 07/09/09 | 07/02/09
71611 | ATT (Wkrs) | Hoffman Estate, IL | 07/09/09 | 07/09/09
71612 | Ameriprise Financial (State) | Minneapolis, MN | 07/09/09 | 07/08/09
71613 | Cherne Industries (State) | Minneapolis, MN | 07/09/09 | 07/09/09
71614 | EGS Electrical Group/O-Z Gedney Company (Comp) | Shoemakersville, PA | 07/09/09 | 07/08/09
71615 | Frontier Airlines, Inc. (Wkrs) | Denver, CO | 07/09/09 | 07/09/09
71616 | Digi International (Comp) | Minnetonka, MN | 07/09/09 | 07/09/09
71617 | Tube City/IMS (USW) | Gary, IN | 07/09/09 | 07/08/09
71618 | Volvo Trucks North America (UAW) | Dublin, VA | 07/09/09 | 07/09/09
71619 | Freescale Semiconductor (Wkrs) | Austin, TX | 07/09/09 | 07/01/09
71620 | Circuit City (State) | Coon Rapids, MN | 07/09/09 | 07/08/09
71621 | Sealy Mattress Company (Wkrs) | Trinity, NC | 07/09/09 | 06/30/09
71622 | Vision Custom Tooling, Inc. (Comp) | Birdsboro, PA | 07/09/09 | 07/09/09
71623 | Eagle of New Bedford (State) | New Bedford, MA | 07/09/09 | 07/06/09
71624 | Teknor Apex (IBT) | Hebronville, MA | 07/09/09 | 07/08/09
71625 | Eaton (Wkrs) | Shawnee, OK | 07/10/09 | 07/09/09
71626 | Robinson Steel (USW) | East Chicago, IN | 07/10/09 | 07/08/09
71627 | Circuit Board Express, Inc. (Wkrs) | Haverhill, MA | 07/10/09 | 07/06/09
71628 | Meridian Automotive Systems (Wkrs) | Grand Rapids, MI | 07/10/09 | 07/08/09
71629 | Hub City (IAM) | Aberdeen, SD | 07/10/09 | 07/01/09

[FR Doc. E9-21154 Filed 9-1-09; 8:45 am]

BILLING CODE 4510-FN-P